DEPARTMENT OF THE INTERIOR

Bureau of Land Management

[CO-800-1430-ES; COC-67005]

Notice of Realty Action: Recreation and Public Purposes Act Classification; Colorado

AGENCY: Bureau of Land Management, Interior.

ACTION: Notice.

SUMMARY: The Bureau of Land Management has examined and found suitable for classification for lease/conveyance under the provisions of the Recreation and Public Purposes (R&PP) Act, as amended (43 U.S.C. 869 et seq.) 1.65 acres of public land in La Plata County, Colorado. The Upper Pine Fire Protection District proposes to use the land for a fire station along U.S. Highway 160, approximately six miles west of Bayfield, Colorado.

DATES: Submit comments on or before October 10, 2006.

ADDRESSES: Please submit your comments to the Columbine Field Office, Bureau of Land Management, P.O. Box 439, Bayfield, Colorado 81122.

FOR FURTHER INFORMATION CONTACT: Cam Hooley, BLM Columbine Field Office, (970) 884-1414, E-mail chooley@fs.fed.us, or Fax: 970-884-2428.

SUPPLEMENTARY INFORMATION: The following described public land in La Plata County, Colorado, has been examined and found suitable for lease/conveyance for public purposes under the provisions of the R&PP Act, as amended (43 U.S.C. 869 et seq). New Mexico Principal Meridian, Colorado, T. 34 N., North of the Ute Line, R. 8 W., Sec. 11, a parcel described by metes and bounds in the SW¼NW¼SE¼. The area described contains approximately 1.65 acres in La Plata County. In accordance with the R&PP Act, the Upper Pine Fire Protection District, a State of Colorado Special District, has filed a petition/application and plan of development for the construction and operation of a fire station. The land is not required for any Federal purpose. Conveyance is consistent with the San Juan/San Miguel Resource Management Plan dated September 1985 and would be in the public interest. A lease/conveyance, if issued, will be subject to the provisions of the R&PP Act and applicable regulations of the Secretary of the Interior and will contain the following reservations to the United States:

1. A right-of-way thereon for ditches and canals constructed by the authority of the United States, Act of August 30, 1890 (43 U.S.C. 945).

2. All minerals shall be reserved to the United States, together with the right to prospect for, mine and remove such deposits from the same under applicable law and such regulations as the Secretary of the Interior may prescribe, and will be subject to valid and existing rights;

Detailed information concerning this action is available for review at the office of the Bureau of Land Management, Columbine Field Office, 367 South Pearl Street, Bayfield, Colorado 81122. Upon publication of this notice in the Federal Register, the above-described land will be segregated from all other forms of appropriation under the public land laws, including the general mining laws, except for lease/conveyance under the Recreation and Public Purposes Act and leasing under the mineral leasing laws, and disposal under the mineral material disposal laws.

Classification Comments: Interested parties may submit comments regarding the suitability of the land for a fire station site. Comments on the classification are restricted to whether the land is physically suited for the proposal, whether the use will maximize the future use or uses of the land, whether the use is consistent with local planning and zoning, or if the use is consistent with State, tribal and Federal programs.

Application Comments: Interested parties may submit comments regarding the specific use proposed in the application and plan of development, whether the Bureau of Land Management followed proper administrative procedures in reaching the decision, or any other factor not directly related to the suitability of the land for fire station purposes. All submissions from organizations or businesses will be made available for public inspection in their entirety. Individuals may request confidentiality with respect to their name, address, and phone number. If you wish to have your name or street address withheld from public review, or from disclosure under the Freedom of Information Act, the first line of the comments should start with the word “Confidentialy Request” in uppercase letters in order for BLM to comply with your request. Such request will be honored to the extent allowed by law. Comment contents will not be kept confidential. Any adverse comments will be reviewed by the State Director, who may sustain, vacate, or modify this realty action. In the absence of any adverse comments, this classification will become effective on October 10, 2006. The lands will not be offered for lease/conveyance until after this classification becomes effective.

(Authority: 43 CFR 2741.5)

Dated: July 27, 2006.
Pauline E. Ellis,
Manager Columbine Field Office.

[FR Doc. E6-14096 Filed 8-24-06; 8:45 am]

BILLING CODE 4310-JB-P